ENVIRONMENTAL PROTECTION AGENCY

[FRL-6719-9]

Environmental Laboratory Advisory Board, Meeting Dates and Agenda

AGENCY: Environmental Protection Agency (EPA).

ACTION: Notice of meetings.

SUMMARY: Pursuant to the Federal Advisory Committee Act, Public Law 92-463, as amended (5 U.S.C., app 2) notification is hereby given of open meetings of the Environmental Laboratory Advisory Board (ELAB).

DATES: The meetings will be held on June 26, 2000 from 5 p.m. to 6 p.m. (EDT) and on June 28, 2000, from 1:30 p.m. to 5 p.m. (EDT).

ADDRESSES: The meetings will be held at the Radisson Fort Magruder Inn and Conference Center, 6945 Pocahontas Trail, Williamsburg, Virginia (1-800-333-3333) in conjunction with the Sixth Annual Meeting of the National Environmental Laboratory Accreditation Conference.

SUPPLEMENTARY INFORMATION: At the June 26, 2000 meeting the Board will host an Open Forum where Board member Roxanne Robinson will present a comparison of the ISO 25 and ISO 17025 laboratory accreditation standards and the public will be given an opportunity to bring up issues that they would like the Board to address.

At the June 28, 2000 meeting, the Board will review the minutes from its May 11, 2000 meeting, discuss the work being conducted by its subcommittees, and discuss any new issues that may be brought to the Board's attention. The current committees include: Performance Based Measurement System, Regulatory Consistency, Third Party Assessors, NELAC Scope of Accreditation/Fields of Testing, NELAC/ISO Consistency, Quality Control Standards, and NELAC White Paper. In addition, the Board will discuss the efforts to address the problem the Department of Transportation regulations present to the shipment of environmental sample by air.

The meetings are open to the public and time will be allotted for public comment. Written comments are encouraged and should be directed to David Friedman; USEPA; 1300 Pennsylvania Avenue, NW. (8101R), Washington, DC 20460.

FOR FURTHER INFORMATION CONTACT: David Friedman; Designated Federal Officer; US Environmental Protection Agency; 1300 Pennsylvania Avenue, NW, (8101R); Washington, DC 20460. If questions arise, please contact Mr. Friedman by phone at (202) 564-6662, by facsimile at (202) 565-2432 or by email at friedman.david@epa.gov.

Dated: June 12, 2000.
Henry L. Longest II,
Deputy Assistant Administrator for Management, Office of Research and Development.

[FR Doc. 00-15718 Filed 6-21-00; 8:45 am]

BILLING CODE 6560-50-U